DEPARTMENT OF LABOR

Employment and Training Administration

[TA-W-57,090]

Hewlett-Packard Company, Imaging & Printing Group—Technology Platforms Division; Corvallis, Oregon; Notice of Termination of Investigation

Pursuant to section 221 of the Trade Act of 1974, an investigation was initiated on May 3, 2005 in response to a worker petition which was filed on behalf of workers at Hewlett-Packard Company, Imaging & Printing Group—Technology Platforms Division, Corvallis, Oregon.

The petitioning group of workers is covered by an active certification, (TA-W-56,696) which expires on May 7, 2007. Consequently, further investigation in this case would serve no purpose, and the investigation has been terminated.

Signed in Washington, DC, this 2nd day of June, 2005.
Elliott S. Kushner,
Certifying Officer, Division of Trade Adjustment Assistance.

[FR Doc. E5-3172 Filed 6-17-05; 8:45 am]

BILLING CODE 4510-30-P